DEPARTMENT OF ENERGY

Federal Energy Regulatory Commission

[Docket Nos. EG06-13-000 et al.]

ANP ERCOT Acquisiton, LLC, et al.; Electric Rate and Corporate Filings

December 9, 2005-12-13

The following filings have been made with the Commission. The filings are listed in ascending order within each docket classification.

ANP ERCOT Acquisition, LLC, Docket Nos. EG06-13-000

ANP ERCOT Development, LLC, EG06-14-000

ANP NE Acquisition, LLC, EG06-15-000

ANP NE Development, LLC, EG06-16-000

ANP PJM Acquisition, LLC, EG06-17-000

ANP PJM Development, LLC, EG06-18-000

ANP Acquisition, LLC, EG06-19-000

ANP Development, LLC, EG06-20-000

ANP Operations II, LLC, EG06-21-000

Take notice that on December 2, 2005, the above listed ANP Entities (Applicants) pursuant to section 32(a)(1) of the Public Utility Holding Company Act of 1935 hereby submit for filing their Applications for Determination of Exempt Wholesale Generator Status.

Applicants state that they are a Delaware limited liability company with its principal place of business in Marlborough, Massachusetts and its sole purpose of each facilities will be used for the generation of electric energy exclusively for sale at wholesale.

Comment Date: 5 p.m. Eastern Time on December 23, 2005.

2. California Independent System Operator

[Docket Nos. ER04-115-005, EL04-47-005, ER04-242-004, ER05-367-002, EL04-50-003]

Take notice that on November 30, 2005, the California Independent System Operator (CA ISO) in compliance to “Order Approving Uncontested Settlement” issued on September 22, 2005, CA ISO provides details of refunds in Attachment A.

Comment Date: 5 p.m. Eastern Time on December 21, 2005.

3. Knedergy LLC

[Docket No. ER06-250-000]

Take notice that on November 28, 2005, Knedergy LLC tendered for filing a Petition for Acceptance of initial Rate Schedule, Waivers, and Blanket Authority for Rate Schedule FERC No. 1.

Comment Date: 5 p.m. Eastern Time on December 19, 2005.

4. Southern California Edison Company

[Docket No. ER06-259-000]

Take notice that on November 30, 2005, Southern California Edison Company (SCE) tenders for filing revisions to it Transmission Owner tariff, FERC Electric Tariff, Second Revised Volume No. 6, and to certain Existing Transmission Contracts to reflect a change to SCE's Reliability Services Rates.

Comment Date: 5 p.m. Eastern Time on December 21, 2005.

5. California Independence System Operator Corporation

[Docket No. ER06-54-001]

Take notice that on November 29, 2005, the California Independent System Operator Corporation (ISO) tendered for filing Attachment A, signature page, to the filing submitted on October 19, 2005.

Comment Date: 5 p.m. Eastern Time on December 19, 2005.

6. DTE Energy Trading, Inc.

[Docket No. EC06-30-000]

Take notice that on November 23, 2005, DTE Energy Trading, Inc. (DTE-ET) tendered for filing an Application for Authorization under section 203 of the Federal Power Act and as amended on November 28, 2005. DTE-ET requests Commission authorization to dispose of jurisdictional facilities by way of an assignment of the rights, obligations and interest in certain of its wholesale electric power sales agreement and associated books and records to Morgan Stanley Capital Group Inc.

Comment Date: 5 p.m. Eastern Time on December 20, 2005.

7. Ameren Services Company

[Docket Nos. EC06-35-000 and ES06-17-000]

Take notice that on December 7, 2005, Ameren Services Company (Ameren Services) tendered for filing an application on behalf of itself and its associate companies, Union Electric Company (d/b/a AmerenUE), Central Illinois Public Service Company (d/b/a AmerenCIPS), Central Illinois Light Company (d/b/a AmerenCILCO), Illinois Power Company (d/b/a Ameren IP), CILCORP Inc., Ameren Energy Resources Company, AmerenEnergy Resources Generating Company (f/k/a Central Illinois Generation, Inc.), Ameren Energy Generating Company (AEG), Ameren Energy Development Company, Ameren Energy Marketing Company, AmerenEnergy Medina Valley Cogen (No. 2), L.L.C., Ameren Energy Medina Valley Cogen, (No. 4) L.L.C., AmerenEnergy Median Valley Cogen, L.L.C., Electric Energy, Inc., and Ameren Corporation (collectively the Applicants) for an order pursuant to section 204 of the Federal Power Act authorizing AmerenUE, AmerenCIPS, AmerenCILCO and AEG (the section 204 Applicants) to issue short-term debt securities, for AEG to issue long-term debt securities, and for the section 204 Applicants to receive cash capital contributions and non-interest bearing open account advances from their respective parents. The Applicants also request pursuant to section 203 of the Federal Power Act, an order granting blanket authorization for the Applicants to acquire securities.

Comment Date: 5 p.m. Eastern Time on December 28, 2005.

8. San Diego Gas & Electric Company and Pacific Gas and Electric Company

[Docket Nos. EL00-95-170 and EL00-98-156]

Take notice that on December 1, 2005, Pacific Gas and Electric Company (PG&E) submitted compliance filing pursuant to a Commission Order issued August 8, 2005. PG&E states that this filing addresses outstanding disputes that are specific to PG&E and is being submitted to the Commission in conjunction with a contemporaneous pleading filed by certain California parties to address further disputes relating to offsets and market re-runs.

Comment Date: 5 p.m. Eastern Time on January 3, 2006.

9. City of Azusa, California

[Docket No. EL06-23-000]

Take notice that on December 2, 2005, City of Azusa, California (Azusa) submitted for filing its third annual revision to it Transmission Revenue Balancing Account Adjustment Azusa request an effective date of January 1, 2006.

Comment Date: 5 p.m. Eastern Time on January 3, 2006.

10. Midwest Independent Transmission System Operator, Inc.

[Docket No. ER02-2458-006]

Take notice that on December 1, 2005, Midwest Independent Transmission System Operator, Inc. submitted for filing an amended contested settlement agreement.

Comment Date: 5 p.m. Eastern Time on December 19, 2005.

11. National Grid plc and National Grid USA

[Docket Nos. ES06-9-000, EC06-34-000, EL06-22-000]

Take notice that on December 2, 2005, National Grid plc and National Grid USA (collectively, Applicants) submited for filing an application and petition on behalf of themselves and certain of their subsidiaries and affiliates, to issue securities under section 204 of the Federal Power Act and part 34 of the Commission's regulations and authorization to acquire securities and for limited intra-family mergers and reorganization under section 203 of the Federal Power Act and part 33 of the Commission's regulations.

Comment Date: 5 p.m. Eastern Time on December 23, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-7422 Filed 12-15-05; 8:45 am]

BILLING CODE 6717-01-P